ELECTION ASSISTANCE COMMISSION

Sunshine Act Meetings

AGENCY: U.S. Election Assistance Commission.

ACTION: Sunshine Act notice; notice of public meeting agenda.

SUMMARY: Public meeting: U.S. Election Assistance Commission Board of Advisors 2023 annual meeting.

DATES: Tuesday, April 25, 2023, 09:00 a.m.-5:00 p.m. Eastern and Wednesday, April 26, 2023, 8:30 a.m.-11:00 a.m. Eastern.

ADDRESSES: Fairmont Washington, DC Georgetown, 2401 M Street NW, Washington, DC 20037.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an annual meeting of the EAC Board of Advisors to conduct regular business, discuss EAC updates and upcoming programs, and discuss the Voluntary Voting System Guidelines (VVSG) 2.0 and electronic poll book pilot program.

Agenda: The U.S. Election Assistance Commission (EAC) Board of Advisors will hold their 2023 Annual Meeting primarily to conduct an annual review the VVSG 2.0 Requirements and implementation, review the status of the EAC's e-poll book pilot program, discuss ongoing EAC programs, discuss threats to election officials and working with local law enforcement, election audits, public records requests, and the impacts of NVRA and HAVA. This meeting will include question and answer discussions between board members and EAC staff.

The Board will also vote to elect three members to Executive Officer positions and consider amendments to the governing Bylaws.

Background: HAVA designates the Board of Advisors to assist EAC in carrying out its mandates under the law. The board consists of 35 members composed of representatives from specified associations, organizations, federal departments, and members of Congress.

The full agenda will be posted in advance on the EAC website: https://www.eac.gov.

Status: This meeting will be open to the public.

Camden Kelliher,
Associate Counsel, U.S. Election Assistance Commission.

[FR Doc. 2023-07449 Filed 4-7-23; 11:15 am]

BILLING CODE P